DEPARTMENT OF COMMERCE

International Trade Administration

[A-351-605]

Frozen Concentrated Orange Juice From Brazil; Rescission of Antidumping Duty Administrative Review

AGENCY: Import Administration, International Trade Administration, Department of Commerce.

ACTION: Notice of rescission of the Antidumping Duty Administrative Review.

EFFECTIVE DATE: July 28, 2004.

FOR FURTHER INFORMATION CONTACT: Irina Itkin or Elizabeth Eastwood, Office of AD/CVD Enforcement 2, Group I, Import Administration, International Trade Administration, U.S. Department of Commerce, 14th Street and Constitution Avenue, NW., Washington, DC 20230, telephone: (202) 482-0656 or (202) 482-3874, respectively.

SUPPLEMENTARY INFORMATION:

Background

On May 3, 2004, the Department of Commerce (Department) published in the Federal Register (69 FR 24117) a notice of opportunity to request an administrative review of the antidumping duty order on frozen concentrated orange juice from Brazil for the period May 1, 2003, through April 30, 2004.

In accordance with 19 CFR 351.213(b)(1), on May 28, 2004, the petitioners (i.e., Florida Citrus Mutual; A. Duda & Sons, Inc. (a.k.a. Citrus Belle); Citrus World, Inc.; and Peace River Citrus Products, Inc.) requested a review of this order with respect to the following producers/exporters: Branco Peres Citrus, S.A. (Branco Peres) and Citrovita Agro Industrial, Ltda. and its affiliated parties Cambuhy MC Industrial Ltda. and Cambuhy Citrus Comercial e Exportadora (collectively “Citrovita”).

The Department initiated an administrative review for Branco Peres and Citrovita and issued questionnaires to them on June 8, 2004. See 69 FR 39409 (June 30, 2004).

Branco Peres and Citrovita notified the Department that neither they nor any of their affiliates had any sales or exports of subject merchandise during the period of review (POR). The Department confirmed these companies' statements with the U.S. Customs and Border Protection. Accordingly, we notified the petitioners that we intended to rescind this administrative review with respect to both respondents and they did not object. See July 16, 2004, memorandum from Alice Gibbons to the file entitled, “Intent to Rescind the Antidumping Duty Administrative Review on Frozen Concentrated Orange Juice from Brazil.”

Rescission of Review

Because Branco Peres and Citrovita had no shipments of subject merchandise during the POR, in accordance with 19 CFR 351.213(d)(3) and consistent with our practice, we are rescinding this review of the antidumping duty order on frozen concentrated orange juice from Brazil for the period of May 1, 2003, through April 30, 2004. This notice is published in accordance with section 751 of the Tariff Act of 1930, as amended, and 19 CFR 351.213(d)(4).

Dated: July 22, 2004.
Gary Taverman,
Acting Deputy Assistant Secretary for Import Administration, Group I.

[FR Doc. 04-17202 Filed 7-27-04; 8:45 am]

BILLING CODE 3510-DS-P